DEPARTMENT OF COMMERCE

National Oceanic and Atmospheric Administration

[I.D. 061902B]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Groundfish Oversight Committee, Scallop Advisory Panel and Oversight Committee, Habitat Oversight Committee and a joint meeting of its Herring Oversight and Advisory Panels with the Atlantic States Marine Fisheries Commission Herring Section in July, 2002 to consider actions affecting New England fisheries in the exclusive economic zone (EEZ). Recommendations from these groups will be brought to the full Council for formal consideration and action, if appropriate.

DATES: The meetings will be held between July 8, 2002 and July 11, 2002. See SUPPLEMENTARY INFORMATION for specific dates and times.

ADDRESSES: The meetings will be held in Wakefield and Plymouth, MA and Warwick, RI. See SUPPLEMENTARY INFORMATION for specific locations.

Council address: New England Fishery Management Council, 50 Water Street, Mill 2, Newburyport, MA 01950.

FOR FURTHER INFORMATION CONTACT: Paul J. Howard, Executive Director, New England Fishery Management Council; (978) 465-0492.

SUPPLEMENTARY INFORMATION:

Meeting Dates and Agendas

Monday, July 8, 2002 at 9:30 a.m.-Groundfish Oversight Committee Meeting.

Location: Sheraton Colonial, One Audubon Road, Wakefield, MA 01880; telephone: (781) 245-9300.

The Groundfish Oversight Committee will meet to review management alternatives for Amendment 13 to the Northeast Multispecies Fishery Management Plan (FMP). Alternatives are being developed based on the broad strategies of area management, sector allocation, a quota or "hard" total allowable catch (TAC), and modifications to the settlement agreement among certain parties in the case of the Conservation Law Foundation, Inc. et. A. v. Donald Evans, et.al. Management measures will address all requirements of the Magnuson-Stevens Act. These alternatives may include (but are not limited to) measures such as changes to the days-at-sea program, revised year-round or seasonal closed areas, gear modifications, additional reporting requirements, and measures to control recreational fishing. Other issues will be considered as well, such as measures that will reduce regulatory discards, improvements in monitoring of recreational catch through use of a recreational permit, providing access to Closed Area II to target yellowtail flounder, an exemption from the groundfish closed areas for tuna purse seine vessels, and changes to the days out requirement for the dayboat gillnet fleet. The report of the Capacity Committee will also be reviewed, and the Oversight Committee will make recommendations on incorporating the alternatives from that report into Amendment 13. The Oversight Committee will review the alternatives and develop recommendations that will be considered by the full Council at the July 23-25, 2002 Council Meeting in Portland, ME. After approval by the Council in July, a draft FMP and supplemental environmental impact statement will be prepared. Public hearings will be held on the alternatives when that work is completed, following which the Council will make final choices for management measures before submitting the amendment to the National Marine Fisheries Service for approval.

Monday, July 8, 2002 at 10 a.m.-Scallop Advisory Panel Meeting.

Location: Crowne Plaza, 801 Greenwich Ave., Warwick, RI 02886; telephone: (401) 732-6000.

The Advisory panel will review analyses of potential impacts associated with Draft Amendment 10 alternatives and develop recommendations for preferred alternatives to be presented at the Oversight Committee meeting on July 9th.

Tuesday, July 9, 2002, at 9 a.m.-Scallop Oversight Committee Meeting.

Location: Crowne Plaza, 801 Greenwich Ave., Warwick, RI 02886; telephone: (401) 732-6000.

The Oversight Committee will review analyses of potential impacts associated with Draft Amendment 10 alternatives, consider recommendations from the Advisory Committee, and select preferred alternatives for approval by the Council. The committee may recommend additional analyses or revisions to the alternatives when the Council approves the documents for public hearing. Planning for the annual framework adjustment process may also be discussed. Due to scheduling conflicts for some Oversight Committee members, the committee meeting on July 9 may run late into the evening.

Wednesday, July 10, 2002, at 9:30 a.m.-Habitat Oversight Committee Meeting.

Location: Sheraton Inn, 180 Water Street, Plymouth, MA 02360; (508) 747-4900.

The Committee will continue development and review of habitat alternatives for Monkfish Amendment 2. They will also review, and possibly approve, habitat alternatives for Groundfish Amendment 13 to be forwarded to the Council for inclusion in the Draft Social Environmental Impact Statement (DSEIS). The agenda will also include discussion and possible preferred alternative choice for Scallop Amendment 10 habitat alternatives to be forwarded to the Council for discussion at its July 23-25, 2002 Council Meeting.

Thursday, July 11, 2002 at 9:30 a.m.-Joint Meeting of the Herring Oversight Committee, Advisory Panel and Atlantic States Herring Section.

Location: Crowne Plaza, 801 Greenwich Ave., Warwick, RI 02886; telephone: (401) 732-6000.

The meeting will be held jointly with the Atlantic States Marine Fisheries Commission (ASMFC) Herring Section. The committee and advisors will review the annual Stock Assessment and Fishery Evaluation (SAFE) Report for the 2001 fishing year, and recommendations from the Herring Plan Development Team (PDT) for 2003 fishing year specifications for optimum yield (OY) from the fishery, total allowable foreign fishing and joint venture processing (TALFF and JVP), and total allowable catch (TACs) for each management area. The committee and advisors, in consultation with the ASMFC Herring Section, will develop recommendations to the Council on the 2003 specifications. Following the conclusion of the specifications portion of the meeting, the ASMFC Herring Section will address matters pertaining to the ASMFC Herring Management Plan.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: June 19, 2002.
Richard W. Surdi,
Acting Director, Office of Sustainable Fisheries, National Marine Fisheries Service.

[FR Doc. 02-15893 Filed 6-21-02; 8:45 am]

BILLING CODE 3510-22-S